DEPARTMENT OF TRANSPORTATION

Federal Railroad Administration

49 CFR Part 213

[Docket No. FRA-2011-0058, Notice No. 2]

RIN 2130-AC28

Track Safety Standards; Improving Rail Integrity

Correction

In rule document 2014-01387, appearing on pages 4234-4260 in the issue of Friday, January 24, 2014, make the following correction:

§ 213.113 Defective rails. [Corrected]

On page 4256, the Table titled “REMEDIAL ACTION TABLE”, in Subpart D—Track Structure, of Part 213, is corrected to read as follows:

[FR Doc. C1-2014-01387 Filed 1-28-14; 8:45 am]

BILLING CODE 1505-01-D